DEPARTMENT OF DEFENSE

Department of the Air Force

[Docket ID USAF-2010-0022]

Proposed Collection; Comment Request

AGENCY: Department of the Air Force, DoD.

ACTION: Notice.

In compliance with Section 3506(c)(2)(A) of the Paperwork Reduction Act of 1995, the Department of the Air Force announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 26, 2010.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Air Force Institute of Technology, 2950 Hobson Way, WPAFB, OH, 45433, 937-255-3636 x4674.

Title; Associated Form; and OMB Number: Leading Edge Supply Chain Survey; OMB Number 0701-TBD.

Needs and Uses: This study seeks to uncover the emerging trends in supply chain management (SCM) practices, processes and metrics that could be beneficial to the Department of Defense, with particular emphasis on the U.S. Air Force.

Affected Public: Business or other for profit.

Annual Burden Hours: 613.5.

Number of Respondents: 818.

Responses per Respondent: 1.

Average Burden per Response: 45 minutes.

Frequency: On occasion.

SUPPLEMENTARY INFORMATION:

Summary of Information Collection

Potential respondents to this survey are individuals with in depth experience in commercial supply chain management.

Dated: August 27, 2010.
Patricia L. Toppings,
OSD Federal Register Liaison Officer, Department of Defense.

[FR Doc. 2010-24090 Filed 9-24-10; 8:45 am]

BILLING CODE 5001-06-P